DEPARTMENT OF DEFENSE

Office of the Secretary

Defense Science Board

ACTION: Cancellation of advisory committee meeting.

SUMMARY: The Defense Science Board Task Force on Options for Acquisition of the Advanced Targeting Pod and Advanced Technology FLIR Pod (ATP/ATFLIR) meeting scheduled for January 26, 2001, was not held.

Dated: February 1, 2001.
L.M. Bynum,
Alternate OSD Federal Register Liaison Officer, Department of Defense.

[FR Doc. 01-3138 Filed 2-6-01; 8:45 am]

BILLING CODE 5001-10-M